DEPARTMENT OF TRANSPORTATION

Federal Motor Carrier Safety Administration

[Docket No. FMCSA-2005-21685]

Parts and Accessories Necessary for Safe Operation; Application for an Exemption From PINOVA

AGENCY: Federal Motor Carrier Safety Administration (FMCSA), DOT.

ACTION: Notice of application for exemption; request for comments.

SUMMARY: The Federal Motor Carrier Safety Administration (FMCSA) requests public comment on an application for an exemption received from PINOVA on behalf of 29 motor carriers that transport short lightered wood logs and stumps from various points in North Carolina, South Carolina, Georgia, Florida, Mississippi, and Alabama to PINOVA's plant in Brunswick, Georgia. PINOVA seeks the exemption because it believes compliance with the commodity-specific rule for securing logs and stumps prevents the company from using more efficient and effective cargo securement methods. PINOVA believes the alternative cargo securement method used by its motor carriers would maintain a level of safety that is equivalent to, or greater than, the level of safety achieved without the exemption.

DATES: Comments must be received on or before October 3, 2005.

ADDRESSES: You may submit comments identified by DOT DMS Docket Number FMCSA-2005-21685 by any of the following methods:

• Web site: http://dms.dot.gov. Follow the instructions for submitting comments on the DOT electronic docket site.

• Fax: 1-202-493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket and to read background documents or comments received, go to http://dms.dot.gov and/or Room PL-401 on the plaza level of the Nassif Building, 400 Seventh Street, SW., Washington, DC, between 9 a.m. and 5 p.m., Monday through Friday, except Federal holidays.

Privacy Act: Anyone may search the electronic form of all comments received into any of DOT's dockets by the name of the individual submitting the comment (or of the person signing the comment, if submitted on behalf of an association, business, labor union, or other entity). You may review DOT's complete Privacy Act Statement in the Federal Register (65 FR 19477, Apr. 11, 2000). This statement is also available at http://dms.dot.gov.

FOR FURTHER INFORMATION CONTACT: Mr. Luke W. Loy, Vehicle and Roadside Operations Division, Office of Bus and Truck Standards and Operations, MC-PSV, (202) 366-0676; Federal Motor Carrier Safety Administration, 400 Seventh Street, SW., Washington, DC 20590-0001.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. On December 8, 1998, the Federal Highway Administration's Office of Motor Carriers, the predecessor to FMCSA, published an interim final rule implementing section 4007 (63 FR 67600). On August 20, 2004, FMCSA published a final rule (69 FR 51589) on this subject. Under this rule, FMCSA must publish a notice of each exemption request in the Federal Register (49 CFR 315(a)). The agency must provide the public with an opportunity to inspect the information relevant to the application, including any safety analyses that have been conducted. The agency must also provide an opportunity for public comment on the request.

The agency reviews the safety analyses and the public comments, and determines whether granting the exemption would likely achieve a level of safety equivalent to, or greater than, the level that would be achieved by the current regulation (49 CFR 381.305). The decision of the agency must be published in the Federal Register (49 CFR 381.315(b)). If the agency denies the request, it must state the reason for doing so. If the decision is to grant the exemption, the notice must specify the person or class of persons receiving the exemption, and the regulatory provision or provisions from which an exemption is granted. The notice must also specify the effective period of the exemption (up to two years), and explain the terms and conditions of the exemption. The exemption may be renewed (49 CFR 381.300(b)).

The Application for Exemption

PINOVA is the world's only producer of refined pale wood rosin, vinsol® resin, and natural wood turpentine from long leaf yellow pine and slash pine lightered wood/fat wood (lightered wood). According to PINOVA's petition, “[l]ightered wood material is formed when resin collects over a period of 50 years or more in the trunk and root system of mature long leaf yellow pine and slash pine trees after the trees have died or been cut.” Refined pale wood rosin and Vinsol® resin are made from the resin found in the trunk and root system of the long leaf yellow pine and the slash pine, which are only found along the southeast coastal plain of the United States. PINOVA contracts with motor carriers to transport lightered wood material from various points in the southeast coastal plain to its Brunswick, Georgia, plant.

PINOVA applied for an exemption on behalf of the motor carriers that transport lightered wood because 49 CFR 393.116(a)(3) requires that firewood, stumps, log debris and other such short logs be transported in a vehicle or container enclosed on all four sides. However, lightered wood logs and other lightered wood material, including short logs and stumps less than 4 feet in length, are typically transported on flatbed logging or stake trucks. This means the typical method of securement (i.e. flatbed logging or stake truck) used by PINOVA's contract carriers is now prohibited by § 393.116(a)(3).

PINOVA requested a class exemption from 49 CFR 303.226(a)(3) for current and future commercial motor vehicle owners and drivers who transport lightered wood/fat wood material from points in North Carolina, South Carolina, Georgia, Florida, Mississippi, and Alabama to its plant in Brunswick, Georgia. PINOVA requested that these vehicles be allowed to transport short lightered wood logs on a flatbed logging or stake truck, provided the material is securely embedded in longer lightered wood logs which are secured according to FMCSA's rules for securing longwood and shortwood logs.

PINOVA believes that granting the exemption would not adversely affect safety. The company argues that the carriers have safely transported lightered wood logs and related material, including short logs less than 4 feet in length, on flatbed logging and stake trucks for more than 50 years. The company believes the track record demonstrates that shorter material may be safely transported on vehicles without walls on all four sides provided the wood is securely embedded inside longer material that is properly secured with tie downs, as required by FMCSA's cargo securement regulations. A copy of the PINOVA application is in the docket referenced at the beginning of this notice.

Request for Comments

In accordance with 49 U.S.C. 31315 and 31136(e), FMCSA requests public comment from all interested persons on PINOVA's application for an exemption from 49 CFR 393.116(a)(3). The agency will consider all comments received before the close of business on the comment closing date indicated at the beginning of this notice. Comments will be available for examination in the docket at the location listed under the address section of this notice. The agency will file comments received after the comment closing date in the public docket, and will consider them to the extent practicable. In addition to late comments, the FMCSA will also continue to file, in the public docket, relevant information that becomes available after the comment closing date. Interested persons should monitor the public docket for new material.

Issued on: August 29, 2005.
Warren E. Hoemann,
Deputy Administrator.

[FR Doc. 05-17508 Filed 9-1-05; 8:45 am]

BILLING CODE 4910-EX-P